DEPARTMENT OF TRANSPORTATION

Federal Motor Carrier Safety Administration

[Docket No. FMCSA-2015-0480]

Commercial Driver's License Standards: Application for Exemption; CRST Expedited (CRST)

AGENCY: Federal Motor Carrier Safety Administration (FMCSA), DOT.

ACTION: Notice of application for renewal of exemption; request for comments.

SUMMARY: FMCSA announces that it has received an application from CRST Expedited (CRST) for a renewal of its exemption from the regulation that requires a commercial learner's permit (CLP) holder to be accompanied by a commercial driver's license (CDL) holder with the proper CDL class and endorsements, seated in the front seat of the vehicle while the CLP holder operates it on public roads or highways. The exemption renewal would allow CLP holders who have passed the skills test but not yet received the CDL document to drive a CRST commercial motor vehicle (CMV) accompanied by a CDL holder who is not necessarily in the passenger seat, provided the driver has documentation of passing the skills test. CRST currently holds an exemption for the period September 23, 2016 through September 24, 2018. FMCSA requests public comment on CRST's application for exemption.

DATES: Comments must be received on or before September 10, 2018.

ADDRESSES: You may submit comments identified by Federal Docket Management System (FDMS) Number FMCSA-2015-0480 by any of the following methods:

• Federal eRulemaking Portal: www.regulations.gov. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251.

• Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line Federal Docket Management System is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Pearlie Robinson, FMCSA Driver and Carrier Operations Division; Office of Carrier, Driver and Vehicle Safety Standards; Telephone: (202) 366-4225. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2015-0480), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comments online, go to www.regulations.gov and put the docket number, “FMCSA-2015-0480” in the “Keyword” box, and click “Search.” When the new screen appears, click on “Comment Now!” button and type your comment into the text box in the following screen. Choose whether you are submitting your comment as an individual or on behalf of a third party and then submit. An option to upload a file is provided. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Request for Exemption Renewal

CRST's initial exemption application from the provisions of 49 CFR 383.25(a)(1) was submitted in 2015; a copy is in the docket identified at the beginning of this notice. That 2015 application describes fully the nature of CRST's operations and CMV drivers. The exemption was granted on September 23, 2016 (81 FR 65696). CRST now requests a renewal of the exemption.

The current exemption excuses CRST from the requirement that a driver accompanying a CLP holder must be physically present at all times in the front seat of a CMV, on the condition that the CLP holder has successfully passed an approved CDL skills test. CRST's 2015 application argued that the existing requirement is inefficient and unproductive, as the company must incur added expense to send the driver to his or her home State to collect a CDL document. Under the rule, the driver is not only unable to utilize newly acquired driving skills, but must also forego compensation before obtaining a CDL. CRST believes that FMCSA should renew the exemption for an additional 5-year period because it results in safer drivers. It allows CRST to foster a more productive and efficient training environment by allowing CLP holders to hone their recently acquired driving skills through on-the job-training and to begin earning an income right away, producing immediate benefits for the driver, the carrier, and the economy as a whole.

IV. Method To Ensure an Equivalent or Greater Level of Safety

CRST states that the exemption does not negatively affect safety outcomes. Instead, the exemption allows drivers trained out-of-State to obtain on-the-job experience in CRST's comprehensive training program while avoiding significant delays and skill degradation. The exemption creates immediate economic and safety benefits for both the CLP holders and CRST—drivers earn an income as part of a team operation while improving their driver skills and gaining valuable experience.

CRST indicated in its renewal application that data show that drivers utilizing the exemption demonstrated better safety outcomes than non-exempt drivers. Through the end of 2016, CRST reported zero accidents to FMCSA involving drivers utilizing the exemption.

In the June 12, 2017, Federal Register, FMCSA granted the renewal of a similar exemption from 49 CFR 383.25(a)(1) to C.R. England, Inc. (C.R. England) for a five-year period. Under the terms and conditions of that exemption, a CLP holder who has documentation of passing the CDL skills test may drive a CMV for C.R. England without being accompanied by a CDL holder in the front seat. The Agency believed that C.R. England's request for exemption would achieve a level of safety that is equivalent to, or greater than, the level of safety achieved without the exemption (82 FR 26975).

A copy of CRST's application for exemption renewal is available for review in the docket for this notice.

Issued on: August 2, 2018.
Larry W. Minor,
Associate Administrator for Policy.

[FR Doc. 2018-17063 Filed 8-8-18; 8:45 am]

BILLING CODE 4910-EX-P